DEPARTMENT OF LABOR

Employment and Training Administration

[TA-W-56,114]

Bourns Microelectronics Modules, Inc., a Subsidiary of Bourns Inc., New Berlin, WI; Notice of Revised Determination on Remand

On June 29, 2005, the United States Court of International Trade (USCIT) granted the Department of Labor's motion for voluntary remand in Former Employees of Bourns Microelectronics Modules, Inc. v. U.S. Secretary of Labor (Court No. 045-00350).

A petition, dated November 30, 2004, for Trade Adjustment Assistance (TAA) and Alternative Trade Adjustment Assistance (ATAA) was filed on behalf of workers and former workers of MMC Bidding, Inc., Division of Bourns, New Berlin, Wisconsin. The investigation revealed that the workers previously worked for Microelectronics Modules Corporation (MMC), New Berlin, Wisconsin and that the workers' employment with MMC was terminated when Bourns acquired the assets of MMC on October 30, 2003. The investigation also revealed that the Department granted a certification for the former workers of MMC (TA-W-42,217; expired December 6, 2004).

On December 27, 2004, the investigation for the case at hand was terminated because it was believed that the workers were covered by the previous certification for MMC (TA-W-42,217). (The Department had also terminated another investigation for a previous petition for the same location (TA-W-54,790) on June 4, 2004 because the Department found that the workers were covered by the certification for MMC (TA-W-42,217)). The Department's Notice of Termination of Investigation for this case was published in the Federal Register (70 FR 3732).

By letter dated January 14, 2005, the petitioner requested administrative reconsideration, stating that the workers were hired by and then separated from Bourns, that the petitioner helped ship machines and documentation to, and provided training to persons in Costa Rica, China and Taiwan, and that parts were being imported to satisfy customers' demands.

By letter dated March 10, 2005, the petitioner's request for reconsideration was dismissed based on the finding that no new facts of a substantive nature which would bear importantly on the Department's determination was provided by the petitioner. On March 11, 2005, the Dismissal of Application for Reconsideration was issued. The Department's Notice of Dismissal was published in the Federal Register on March 22, 2005 (70 FR 14483).

On May 3, 2005, the petitioner filed an appeal with the USCIT. In the appeal, the petitioner suggested that the workers were engaged in production during their employment with Bourns and alleged that they were separated from Bourns in May 2004 when the facility closed due to the shift of production to China, Taiwan and Costa Rica.

In its June 29, 2005 Order, the USCIT granted the Department's motion for a voluntary remand for further investigation and directed the Department to determine whether the subject worker group met the criteria set forth in the Trade Act of 1974 for TAA and ATAA certification.

During the remand investigation, the Department contacted a Bourns official to ascertain whether the workers were employees of Bourns Microelectronics Modules, Inc., (BMMI), whether the workers were engaged in production of computer modules during their employment with BMMI and if so, whether computer module production shifted abroad, and whether there were increased imports of computer modules during the relevant period.

The remand investigation revealed that the subject company did not acquire the subject facility until December 3, 2003 and that the subject workers were separated from BMMI, a subsidiary of Bourns, Inc., when the subject company shifted a meaningful portion of computer module production from the subject facility to Costa Rica.

Under Section 113 of the Trade Adjustment Assistance Reform Act of 2002 (PL 107-210), workers may be eligible to apply for TAA services if they were laid off as a result of increased imports or if their companies shifted production out of the United States to certain foreign countries. Workers laid off as a result of a shift in production to a country that is party to a free trade agreement with the United States, or a country that is named as a beneficiary under the Andean Trade Preference Act, the African Growth and Opportunity Act or the Caribbean Basin Economic Recovery Act, may satisfy TAA certification criteria. Since Costa Rica is a named beneficiary under the Caribbean Basin Economic Recovery Act, the shift of computer module production from the subject facility to Costa Rica satisfies the criteria for TAA certification.

A careful review of the record revealed that all criteria regarding ATAA for the subject worker group have been met. A significant number or proportion of the worker group are age fifty years or over, the workers possess skills that are not easily transferable and competitive conditions within the industry are adverse.

Conclusion

After careful review of the facts obtained in the remand investigation, I conclude that there was a shift in production from the workers' firm or subdivision to Costa Rica of articles that are like or directly competitive with those produced by the subject firm or subdivision. In accordance with the provisions of the Act, I make the following certification:

All workers of Bourns Microelectronics Modules, Inc., A Subsidiary of Bourns, Inc., New Berlin, Wisconsin, who became totally or partially separated from employment on or after December 3, 2003, through two years from the issuance of this revised determination, are eligible to apply for Trade Adjustment Assistance under Section 223 of the Trade Act of 1974, and are also eligible to apply for Alternative Trade Adjustment Assistance under Section 246 of the Trade Act of 1974.

Signed at Washington, DC, this 16th day of August, 2005.
Elliott S. Kushner,
Certifying Officer, Division of Trade Adjustment Assistance.

[FR Doc. E5-4670 Filed 8-25-05; 8:45 am]

BILLING CODE 4510-30-P